DEPARTMENT OF HOUSING AND URBAN DEVELOPMENT

[Docket No. FR-5758-N-06]

60-Day Notice of Proposed Information Collection: Housing Search Process for Racial/Ethnic Minorities

AGENCY: Office of the Assistant Secretary for Policy Development and Research, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: July 7, 2014.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Colette Pollard, Reports Management Officer, QDAM, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339. Copies of available documents submitted to OMB may be obtained from Ms. Pollard.

SUPPLEMENTARY INFORMATION: This notice informs the public that HUD is seeking approval from OMB for the information collection described in Section A.

A. Overview of Information Collection

Title of Information Collection: Housing Search Process for Racial/Ethnic Minorities.

Type of Request New.

OMB Approval Number: N/A.

Form Number: None.

Description of the need for the information and proposed use: It has suspected that differences between the rental housing search process employed by racial and ethnic minorities and other populations may have significant consequences for the housing opportunities available to minority households and the strategies needed to combat racial and ethnic discrimination. This is an exploratory inquiry into a topic that is not well understood and has not been a well-developed research topic. The findings of this study will help guide research toward a more comprehensive understanding of the rental housing search processes of individual households and will inform development of more effective enforcement strategies to combat discriminatory practices and will indicate ways to expand housing opportunities for racial and ethnic minorities.

Respondents; Recent movers and current housing searchers in large scale cognitive testing and a limited number of in-depth interviews of some members of the testing group.

Information collection | Number of respondents | Frequency of response | Responses per annum | Burden hour per response | Annual burden hours | Hourly cost per response | Annual cost
Recent Movers | 525 | 1 | 1 | .5 | 262.5 | 0 | 0
Ineligibles—screened out | 175 | 1 | 1 | .0333 | 5.83 | 0 | 0
Current Movers—first wave | 175 | 1 | 1 | .5 | 87.5 | 0 | 0
Current movers—second wave | 140 | 1 | 1 | .33 | 46.2 | 0 | 0
Current movers—third wave | 98 | 1 | 1 | .33 | 32.34 | 0 | 0
In-depth Interviews | 48 | 1 | 1 | 1 | 48 | 0 | 0
Total | 986 (700-Unique) |  |  |  | 482.37 | 0 | 0

There are no capital/start-up or ongoing operation/maintenance cost to respondent or record keepers associated with this data collection.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses.

HUD encourages interested parties to submit comment in response to these questions.

Authority: 12 U.S.C. 1701z-1 Research and demonstrations.

Dated: April 25, 2014.
Jean Lin Pao,
General Deputy Assistant Secretary for Policy Development and Research.

[FR Doc. 2014-10233 Filed 5-2-14; 8:45 am]

BILLING CODE 4210-67-P